DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Florida Fishing and Boating Survey.

OMB Control Number: 0648-xxxx.

Form Number(s): None.

Type of Request: Regular (request for a new information collection).

Number of Respondents: 4,335.

Average Hours per Response: 5 minutes.

Burden Hours: 361.

Needs and Uses: This request is for a new information collection.

The objective of the short survey will be to understand how anglers respond to changes in trip costs and fishing regulations in the Gulf of Mexico. We are conducting this survey to improve our ability to predict changes the number of fishing trips anticipated with changes in economic conditions or fishing regulations. This will improve the analysis of the economic effects of proposed changes in fishing regulations and changes in economic factors that affect the cost of fishing such as fuel prices.

The population consists of those anglers who fish in the Gulf of Mexico from Florida, including those who possess a license to fish, and those who are not required to have a license (e.g., seniors). We plan to independently sample from the frame designed for the Fishing Effort Survey (FES) of the Marine Recreational Fishing Program (MRIP). Anglers will be mailed a postcard that directs them to a website to complete the survey.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: May 3, 2018.
Sarah Brabson,
NOAA PRA Clearance Officer.

[FR Doc. 2018-09836 Filed 5-8-18; 8:45 am]

BILLING CODE 3510-22-P